DEPARTMENT OF VETERANS AFFAIRS

[OMB Control No. 2900-0208]

Agency Information Collection Activity Under OMB Review: Department of Veterans Affairs Acquisition Regulation; Architect-Engineer Fee Proposal; Contractor Production Report; Daily Log and Contract Progress Report

AGENCY: Office of Acquisition and Logistics, Department of Veterans Affairs.

ACTION: Notice.

SUMMARY: In compliance with the Paperwork Reduction Act (PRA) of 1995, this notice announces that the Office of Acquisition and Logistics, Department of Veterans Affairs, will submit the collection of information abstracted below to the Office of Management and Budget (OMB) for review and comment. The PRA submission describes the nature of the information collection and its expected cost and burden and it includes the actual data collection instrument.

DATES: Comments must be submitted on or before December 28, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0208” in any correspondence.

FOR FURTHER INFORMATION CONTACT: Rafael Taylor, Procurement Policy and Warrant Management Service (003A2A), Department of Veterans Affairs, 425 I Street NW, Washington, DC 20001, (202) 382-2787 or email Rafael.Taylor@va.gov. Please refer to “OMB Control No. 2900-0208” in any correspondence.

SUPPLEMENTARY INFORMATION:

Authority: 44 U.S.C. 3501-21.

Title: Department of Veterans Affairs Acquisition Regulation (VAAR): VA Form 6298 (formerly 10-6298), Architect-Engineer Fee Proposal; VA Form 10101, Contractor Production Report (formerly VA Form 10-6131, Daily Log and VA Form 10-6001a, Contract Progress Report).

OMB Control Number: 2900-0208.

Type of Review: Renewal with changes of a currently approved collection.

Abstract: This Paperwork Reduction Act (PRA) submission seeks renewal with changes of Office of Management and Budget (OMB) approval No. 2900-0208 as follows:

• Replace both existing VA Form 10-6131 (Daily Log (Contract Progress Report—Formal Contract)) and VA Form 10-6001a (Contract Progress Report) with one new form, which combines the intended purpose for VA Form 10-6131 and VA Form 10-6001a. The new combined form would now read: “VA Form 10101, Contractor Production Report.”

• Renumber VA Form 10-6298 Architect-Engineer Fee Proposal, to “VA Form 6298,” and revise the content in the form with updated thresholds and FAR citations.

The above proposed revisions do not change the currently approved burden hours. The actual VA Form 10101 and VA Form 6298 can be located at VA Forms website https://www.va.gov/vaforms/default.asp.

The Department of Veterans Affairs, Office of Construction and Facilities Management (CFM), manages a multimillion-dollar construction program that involves the design and construction of medical centers, and other VA facilities including building improvements and conversions. The actual construction work is contracted out to private construction firms.

VA Form 6298 (formerly 10-6298), Architect-Engineer Fee Proposal: The use of this form is mandatory for obtaining the proposal and supporting cost or pricing data from the contractor and subcontractor in the negotiation of all architect-engineer contracts for design services when the contract price is estimated to be $50,000 or more. It is also used in obtaining proposals and supporting cost or pricing data for architect-engineer services for research study, seismic study, master planning study, construction management and other related services contracts. A Contractor Production Report is also used, but supplemented or modified as needed for the particular project type. (VA Acquisition Regulation (VAAR) 836.606-71, Architect-engineer's proposal, and VAAR 853.236-70.)

VA Form 10101, Contractor Production Report (formerly VA Form 10-6131), Daily Log—Formal Contract, and VA Form 10-6001a, Contract Progress Report, depending on the size of the contract: Is used to record the data necessary to ensure the contractor provides sufficient labor and materials to accomplish the contract work. Contractors are required to guarantee the performance of the work necessary to complete the project. VAAR 852.236-79 details what needs to be addressed by the contractor on the Contractor Production Report. Failure to receive information from the Contractor Production Report could result in a claim for non-performance and construction delays against the Government if the Government were unable to collect this information to administer the contract.

An agency may not conduct or sponsor, and a person is not required to respond to a collection of information unless it displays a currently valid OMB control number. The Federal Register Notice with a 60-day comment period soliciting comments on this collection of information was published at 83 FR 45482 on September 7, 2018.

Affected Public: Business or other for-profit and not-for-profit institutions.

Estimated Annual Burden: VA Form 6298—1,000 Burden Hours. VA Form 10101—4,341 Burden Hours.

Estimated Average Burden per Respondent: VA Form 6298—4 Hours. VA Form 10101—24 Minutes.

Frequency of Response: On occasion.

Estimated Number of Respondents: VA Form 6298—250. VA Form 10101—10,853.

By direction of the Secretary:
Cynthia D. Harvey-Pryor,
Government Information Specialist, Department of Veterans Affairs.

[FR Doc. 2018-25911 Filed 11-27-18; 8:45 am]

BILLING CODE 8320-01-P